COMMODITY FUTURES TRADING COMMISSION

17 CFR Part 41

RIN 3038-AB71

SECURITIES AND EXCHANGE COMMISSION

17 CFR Part 242

[Release No. 34-44853; File No. S7-16-01]

RIN 3235-A122

Customer Margin Rules Relating to Security Futures

Correction

In the issue of Tuesday, November 13, 2001, on page 56902, in the first column, in the correction of proposed rule document 01-24574, in the first paragraph, in the third line, “October 24, 2001” should read “October 4, 2001”.

In the same correction, in the first column, in paragraph 3., in the first line, “the same page” should read “page 50728”.

In the same correction, in the first column, in paragraph 4(b), in the second line, “amount” should read “amount,”.

[FR Doc. C1-24574 Filed 11-16-01; 8:45 am]

BILLING CODE 1505-01-D

SECURITIES AND EXCHANGE COMMISSION

[File No. 1-9641]

Issuer Delisting; Notice of Application To Withdraw From Listing and Registration on the American Stock Exchange LLC (Identix Incorporated, Common Stock, $.01 par value)

October 31, 2001.

Correction

In notice document 01-27789 appearing on page 56140 in the issue of Tuesday, November 6, 2001, make the following correction:

On page 56140, in the first column, the subject title should be as set forth above.

[FR Doc. C1-27789 Filed 11-16-01; 8:45 am]

BILLING CODE 1505-01-D

DEPARTMENT OF TRANSPORTATION

Federal Aviation Administration

14 CFR Part 39

[Docket No. 98-CE-113-AD; Amendment 39-12493; AD 2001-22-14]

RIN 2120-AA64

Airworthiness Directives; Overland Aviation Services Fire Extinguishing System Bottle Cartridges

Correction

In final rule document 01-27412 beginning on page 55559 in the issue of Friday, November 2, 2001, make the following correction:

On page 55562, in the second table, in the first entry under the Procedures column, in the third and fourth line, remove “cartridge”.

[FR Doc. C1-27412 Filed 11-16-01; 8:45 am]

BILLING CODE 1505-01-D